NATIONAL AERONAUTICS AND SPACE ADMINISTRATION

[Notice (05-088)]

NASA Advisory Council, Minority Business Resource Advisory Committee; Meeting

AGENCY: National Aeronautics and Space Administration (NASA).

ACTION: Notice of meeting.

SUMMARY: In accordance with the Federal Advisory Committee Act, Pub. L. 92-463, as amended, the National Aeronautics and Space Administration announce a forthcoming meeting of the NASA Advisory Council (NAC), Minority Business Resource Advisory Committee.

DATES: Wednesday, June 8, 2005, 9 a.m. to 4 p.m.

ADRESSES: Marriott Residence Inn Hotel, 333 E St. SW., Washington, DC 20024.

FOR FURTHER INFORMATION CONTACT: Mr. Ralph C. Thomas III, Office of Small and Disadvantaged Business Utilization, National Aeronautics and Space Administration, (202) 358-2088.

SUPPLEMENTARY INFORMATION: The meeting will be open to the public up to the seating capacity of the room. The agenda for the meeting is as follows:

—Review of Previous Meeting.

—Small Business Participation in Major NASA Contracts.

—Public Comment.

—Discussion of New Process for Priorities.

—Office of Small and Disadvantage Business Utilization National Program Update.

—New Business.

It is imperative that the meeting be held on this date to accommodate the scheduling priorities of the key participants Visitors will be requested to sign a visitor's register.

Dated: May 10, 2005.
P. Diane Rausch,
Advisory Committee Management Officer, National Aeronautics and Space Administration.

[FR Doc. 05-9800 Filed 5-16-05; 8:45 am]

BILLING CODE 7510-13-P